DEPARTMENT OF STATE

22 CFR Part 40

[Public Notice: 6328]

RIN 1400-AC04

Aliens Inadmissible Under the Immigration and Nationality Act, as Amended: Unlawful Voters

AGENCY: Department of State.

ACTION: Final rule.

SUMMARY: This rule adopts as final the Department interim rule which amended the regulations concerning visa ineligibility for aliens who vote unlawfully. The amendment was necessary to comply with the provisions of the Child Citizenship Act of 2000.

DATES: This rule is effective August 26, 2008.

FOR FURTHER INFORMATION CONTACT: Penafrancia D. Salas, Legislation and Regulations Division, Visa Services, Department of State, Washington, DC 20520-0106, (202) 663-2878.

SUPPLEMENTARY INFORMATION:

What is the Authority and Exception for this rule?

On June 21, 2005, the Department published an interim rule [70 FR 35526] that implemented Section 201(b)(1) of Public Law 106-395, Child Citizenship Act of 2000 [February 27, 2001]. This Act amended Section 212(a)(10) of the Immigration and Nationality Act (INA) by adding an exception to the ground of inadmissibility, INA 212(a)(10)(D), for aliens who voted in violation of the U.S. law. Under INA 212(a)(10)(D), in general, an alien will continue to be inadmissible, and therefore, ineligible for a visa, if the alien has voted in violation of any Federal, State, or local constitutional provision, statute, ordinance, or regulation. Nevertheless, pursuant to the new exception, the alien shall not be considered to be inadmissible under any provision of this subsection based on such violation if each natural parent of the alien (or, in the case of an adopted alien, each adoptive parent of the alien) is or was a citizen (whether by birth or naturalization), the alien permanently resided in the United States prior to attaining the age of 16, and the alien reasonably believed at the time of such violation that he or she was a citizen.

Were comments solicited in the Departments Interim rule?

Yes, the Department solicited comments; however, no comments were received.

The final rule is unchanged from the interim rule which amended the Departments regulations at 22 CFR 40.104, published in the Federal Register on June 21, 2005 (70 FR 35526-35527). The interim rule is hereby adopted as final.

Dated: August 14, 2008.
Janice L. Jacobs,
Assistant Secretary for Consular Affairs, Department of State.

[FR Doc. E8-19755 Filed 8-25-08; 8:45 am]

BILLING CODE 4710-06-P